DEPARTMENT OF COMMERCE

International Trade Administration

[A-570-051]

Hardwood Plywood Products From the People's Republic of China: Rescission of Antidumping Duty New Shipper Review; 2019; Correction

AGENCY: Enforcement and Compliance, International Trade Administration, Department of Commerce.

DATES: Applicable November 12, 2019.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On September 27, 2019, the Department of Commerce (Commerce) published the Rescission Notice for the new shipper review of the antidumping duty order on hardwood plywood products (plywood) from the People's Republic of China (China).¹ In the Rescission Notice, we inadvertently stated that we would instruct U.S. Customs and Border Protection (CBP) to assess antidumping duties on entries of plywood from China during the period of review made by Xuzhou Constant Forest Industry Co., Ltd. (Constant Forest).

¹ See Hardwood Plywood Products from the People's Republic of China: Rescission of Antidumping Duty New Shipper Review; 2019, 84 FR 51111 (September 27, 2019) (Rescission Notice).

Correction to Rescission of Antidumping Duty New Shipper Review

Because the new shipper review of Constant Forest was not completed and Constant Forest's entries entered under a period for which parties will have an opportunity to request an administrative review, its entries should not be liquidated at this time. Once the opportunity to request an administrative review for the period January 1, 2019, through December 31, 2019, has passed, Commerce will assess duties on these entries consistent with either 19 CFR 351.212(b) (assessment as the result of a review) or 351.212(c) (automatic assessment if no review is requested). Commerce has deactivated the liquidation instructions issued to CBP's Automated Commercial Environment and intends to issue an informational message stating that these entries must remain suspended until further notice.

This notice is issued and published in accordance with sections 751 and 777(i)(l) of the Tariff Act of 1930, as amended, and 19 CFR 351.214(f)(3).

Dated: November 6, 2019.
James Maeder,
Deputy Assistant Secretary for Antidumping and Countervailing Duty Operations.

[FR Doc. 2019-24538 Filed 11-8-19; 8:45 am]

BILLING CODE 3510-DS-P